DEPARTMENT OF HEALTH AND HUMAN SERVICES

National Institutes of Health

National Library of Medicine; Notice of Meetings; Amended Notice of Meeting

Notice is hereby given of a change in the meeting of the Board of Scientific Counselors, National Center for Biomedical Communications, December 2, 2014, 8:30 a.m. to 3:00 p.m., National Library of Medicine, Building 38, Board Room, 8600 Rockville Pike, Bethesda, MD 20892 which was published in the Federal Register on June 9, 2014, 79 FR 110, Page 32970.

The meeting of the Board of Scientific Counselors, National Center for Biomedical Communications, will be held on December 16, 2014 instead of December 2, 2014, at 8:30 a.m. and will end at 3:00 p.m. The meeting is partially closed to the public.

Dated: July 11, 2014.
Michelle Trout,
Program Analyst, Office of the Federal Advisory Committee Policy.

[FR Doc. 2014-16742 Filed 7-16-14; 8:45 am]

BILLING CODE 4140-01-P